PRESIDIO TRUST

The Presidio of San Francisco, California; Notice of Intent To Prepare an Amendment to the July 1994 Final General Management Plan Amendment and an Associated Supplemental Environmental Impact Statement

AGENCY: The Presidio Trust.

ACTION: Notice of intent to conduct public scoping and to prepare a Supplemental Environmental Impact Statement.

SUMMARY: The Presidio Trust (Trust) announces its intention to prepare an amendment for Area B of The Presidio of San Francisco (Area B) to the July 1994 Final General Management Plan Amendment (GMPA) and an associated Supplemental Environmental Impact Statement (SEIS) that will be tiered off the GMPA Environmental Impact Statement (EIS) pursuant to 40 CFR 1508.28. The Trust will hold two public scoping meetings to determine the scope of impact topics and alternatives to be addressed in the SEIS.

DATES: The first of two scoping meetings will be held on July 12, 2000, from 6 to 9 p.m., at the Log Cabin (Presidio Building 1299), The Presidio of San Francisco.

SUPPLEMENTARY INFORMATION:

Background

After Congress designated The Presidio of San Francisco (Presidio) for closure as a military base in 1989, the Presidio's long-time occupant, the U.S. Army, transferred jurisdiction of the parcel to the National Park Service (NPS) in 1994. As part of the transition, the NPS in July 1994 completed and issued the final GMPA for the Presidio laying out a vision for its future use and management.

In 1996, Congress established the Trust pursuant to the Presidio Trust Act (16 U.S.C. 460bb appendix) (Trust Act). The Trust is a wholly-owned government corporation whose purposes are to preserve and enhance the Presidio as a national park, and to ensure that the Presidio becomes financially self-sufficient by 2013 (i.e., generate sufficient revenue without any federal appropriation to fund long-term operating and maintenance costs and to fund capital reserves for ongoing capital expenditure needs).

The Trust assumed administrative jurisdiction over Area B (approximately 80 percent of the Presidio) on July 1, 1998, and NPS retains jurisdiction of the coastal areas (Area A). The Trust Act directs the Trust to manage the property under its administrative jurisdiction in accordance with both the purposes of the Act establishing the Golden Gate National Recreation Area and with the “general objectives” of the GMPA. Since assuming administrative jurisdiction over Area B, the Trust has begun to implement specific elements of the GMPA, despite the fact that changed conditions at times require the Trust to reassess certain of the GMPA's site-specific plans and programs. Both NPS and the public have expressed desire for the Trust to better explain how it intends to implement the GMPA Presidio-wide in view of the need under some circumstances to depart from the site-specific proposals of the GMPA. The Trust believes that the best means to understand proposed departures from the GMPA is to undertake additional comprehensive programmatic planning that updates the GMPA. In announcing this undertaking, the Trust acknowledges and wishes to respond to the strong sentiment of the public asking for clarification of the Trust's Presidio-wide approach to circumstances that have changed since NPS finalized the GMPA, before the Trust was created.

By this notice, the Trust is announcing its intent to begin a planning effort for Area B that will be conducted pursuant to the National Environmental Policy Act of 1969 (Pub. L. 91-90 as amended) and its procedural requirements. The planning will start with the GMPA as a baseline and take into account intervening events that have altered the GMPA's site-specific assumptions, changed circumstances and new opportunities that have arisen since the GMPA was finalized, and the new Trust mandates. The proposed amendment is expected to identify an updated vision for Area B, and the SEIS, which will tier from the GMPA EIS, will evaluate a range of development alternatives for Area B.

Proposed Scoping Process and Schedule

This notice of intent initiates the scoping process for the proposed action. Beginning July 12, 2000, the Trust will provide opportunities to explain the proposed GMPA amendment and to solicit suggestions, recommendations and comments to help refine the issues and alternatives to be addressed in the SEIS. Meetings with interested persons and organizations will be held during the scoping period. In addition, the Trust will consult local, state and federal agencies with interest in or expertise with the area of investigation.

The first scoping meeting to discuss and take scoping comments will be conducted in a workshop format and will be held on Wednesday, July 12, 2000, from 6 to 9 p.m., at the Log Cabin in the Presidio. Using the GMPA and projects currently underway or completed as a baseline, the workshop will focus on areas of opportunity for change. The Trust will make available information summarized from past planning workshops and other public outreach sessions and seek the public's input on topics including planning principles, Presidio programs, transportation, housing, visitor services and land use for purposes of both developing a reasonable range of alternatives and identifying specific impacts to be evaluated in the SEIS. At a second scoping meeting the Trust will, using the information from the July meeting and other public input, offer a range of conceptual programmatic alternatives for public comment. The date, time and location of the second meeting will be announced in a variety of media including publication in the Trust's monthly newsletter, the Presidio Post, posting on the Trust's web-site (www.presidiotrust.gov) and notification to those persons and entities that may call or write requesting notice of subsequent events concerning the planning process.

To ensure that the full range of issues and alternatives related to this proposed action are identified and addressed, all persons affected by or otherwise interested in the updated plan for the Presidio are invited to participate in determining the scope and significance of issues to be analyzed in the SEIS by submitting written comments or by attending one of the scoping meetings.

ADDRESSES: Written comments concerning the content of the plan and the scope of the SEIS should be sent to John Pelka, NEPA Compliance Coordinator, the Presidio Trust, 34 Graham Street, P.O. Box 29052, San Francisco, CA 94129-0052. Fax: 415-561-5315. E-mail: jpelka@presidiotrust.gov.

FOR FURTHER INFORMATION: Contact John Pelka, NEPA Compliance Coordinator, the Presidio Trust, 34 Graham Street, P.O. Box 29052, San Francisco, CA 94129-0052. Telephone: 415-561-5300.

Dated: June 27, 2000.
Karen A. Cook,
General Counsel.

[FR Doc. 00-16715 Filed 6-29-00; 8:45 am]

BILLING CODE 4310-4R-U